DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Outcome Measures (NOMs) for Substance Abuse Prevention—(OMB No. 0930-0230)—Revision

This is a revision to the previously OMB approved instrument for the Center for Substance Abuse Prevention's (CSAP) National Outcome Measures for Substance Abuse Prevention (NOMs). Data are collected from SAMHSA/CSAP grants and contracts where community and participant outcomes are assessed. The analysis of these data helps determine whether progress is being made in achieving SAMHSA/CSAP's mission. The primary purpose of this system is to promote the use among SAMHSA/CSAP grantees and contractors of common National Outcome Measures recommended by SAMHSA/CSAP with significant input from panels of experts and state representatives.

Approval of this information collection will allow SAMHSA to continue to meet Government Performance and Results Modernization Act of 2010 (GPRAMA) reporting requirements that quantify the effects and accomplishments of its discretionary grant programs which are consistent with OMB guidance, and address goals and objectives outlined in the Office of National Drug Control Policy's Performance Measures of Effectiveness.

Note that the only changes is the deletion of one question per instrument, the deletion of prior Fiscal Years, and the PPC program which was not funded. The question being deleted is Has the Service Member experienced any of the following (select all that apply)

(a) Deployed in support of combat operations (e.g. Iraq or Afghanistan)

(b) Was physically injured during combat operations

(c) Developed combat stress symptoms/difficulties adjusting following deployment, including PTSD, depression, or suicidal thoughts

(d) Died or was killed

The total annual burden estimate is shown below:

SAMHSA/CSAP program | Number of grantees | Number of respondents | Number of responses | Responses per respondent | Hours/ response | Total hours
FY 13
Science/Services:
Fetal Alcohol | 23 | 4,800 | 14,400 | 3 | 0.4 | 5,760
Capacity:
HIV | 122 | 31,964 | 95,892 | 3 | 0.4 | 38,357
SPF SIG | 35 |  |  | 0 |  |
SPF SIG/Community Level * |  | 29,925 | 29,925 | 1 | 0.4 | 11,970
SPF SIG/Program Level * |  | 9,100 | 27,300 | 3 | 0.4 | 10,920
PFS | 37 |  |  | 0 |  |
PFS/Community Level * |  | 37,000 | 37,000 | 1 | 0.4 | 14,800
Annual Average | 217 | 112,889 | 204,517 |  |  | 81,807
* The Strategic Prevention Framework State Incentive Grant (SPF SIG) and Partnerships for Success (PFS) have a three level evaluation: The Grantee, Community and Program Level. The Grantee level data will be pre-populated by SAMHSA. The use of the Community Level instrument is optional as they relate to targeted interventions implemented during the reporting period. At the program level, items will be selected in line with direct services implemented.

Written comments and recommendations concerning the proposed information collection should be sent by March 27, 2013 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2013-04270 Filed 2-22-13; 8:45 am]

BILLING CODE 4162-20-P